DEPARTMENT OF HEALTH AND HUMAN SERVICES

National Institutes of Health

National Institute of Diabetes and Digestive and Kidney Diseases; Notice of Closed Meeting

Pursuant to section 10(d) of the Federal Advisory Committee Act, as amended, notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Diabetes and Digestive and Kidney Diseases Special Emphasis Panel; Review of Institutional Training Grants (T32) in Digestive Diseases and Nutrition.

Date: October 18, 2022.

Time: 10:00 a.m. to 6:00 p.m.

Agenda: To review and evaluate grant applications.

Place: National Institutes of Health, National Institute of Diabetes and Digestive and Kidney Diseases, Two Democracy Plaza, 6707 Democracy Boulevard, Bethesda, MD 20892 (Video Meeting).

Contact Person: Tian, Lan, Ph.D., Scientific Review Officer, Review Branch, DEA, NIDDK, National Institutes of Health, Suite 7016, 6707 Democracy Boulevard, Bethesda, MD 20892-5452, 301.496.7050, tianl@niddk.nih.gov.

(Catalogue of Federal Domestic Assistance Program Nos. 93.847, Digestive Diseases and Nutrition Research; 93.849, National Institutes of Health, HHS)

Miguelina Perez,
Program Analyst, Office of Federal Advisory Committee Policy.

[FR Doc. 2022-16889 Filed 8-5-22; 8:45 am]

BILLING CODE 4140-01-P